DEPARTMENT OF COMMERCE

Census Bureau

Census Bureau Age Search; Proposed Collection; Comment Request

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 17, 2001.

ADDRESSES: Direct all written comments to Madeleine Clayton, Departmental Forms Clearance Officer, Department of Commerce, Room 6086, 14th and Constitution Avenue, NW., Washington, DC 20230 (or via the Internet at mclayton@doc.gov).

FOR FURTHER INFORMATION CONTACT: Requests for additional information or copies of the information collection instrument(s) and instructions should be directed to: Mary Lee Eldridge, U. S. Census Bureau, National Processing Center, Management Services Branch, Jeffersonville, IN 47132, Phone: 812-218-3192.

SUPPLEMENTARY INFORMATION:

I. Abstract

The Age Search is a service provided by the Census Bureau for persons who need transcripts of personal data as proof of age for pensions, retirement plans, medicare, or social security benefits. Transcripts are also used as proof of citizenship to obtain passports or to provide evidence of family relationship for rights of inheritance. The Age Search forms gather information necessary for the Census Bureau to make a search of its historical population census records in order to provide the requested transcript.

II. Method of Collection

BC-600—“Application for Search of Census Records'

Form BC-600, Application For Search of Census Records is a public use form that is submitted by applicants requesting information from the decennial census records.

BC-649(L)—“Not Found” Form

Form BC-649(L), which is called “Not Found”, advises the applicant that search for information from the census records was unsuccessful. The form also advises the applicant that new or corrected information must be furnished if further searches of the records are desired. A variety of footnotes are used to specify the nature of the item required in order to proceed with the search.

BC-658(L)—“Insufficient Information Received To Proceed With Search”

Form BC-658(L) is sent to the applicant when insufficient information was received on which to base a search of the census records. The form requests that the applicant provide the exact address of the place of residence including the street name and house number, or the names of cross streets between which the house is situated, and the name of the head of the household with whom the person resided on a particular census date.

III. Data

OMB Number: 0607-0117.

Form Number: BC-600, BC-649(L), BC-658(L).

Type of Review: Regular.

Affected Public: Individuals.

Estimated Number of Respondents: BC-600 (6650); BC-649(L) (4123); BC-658(L) (333); Total=11,106.

Estimated Time Per Response: BC-600 (12 min.); BC-649(L) (6 min.); BC-658(L) (6 min.).

Estimated Total Annual Burden Hours: 1775.

Estimated Total Annual Cost: BC-600: $266,000 ($40 per applicant).

Respondent's Obligation: Required to obtain or retain benefits.

Legal Authority: Title 13, U.S.C., Section 8.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 13, 2001.
Madeleine Clayton,
Departmental Forms Clearance Officer, Office of the Chief Information Officer.

[FR Doc. 01-4019 Filed 2-15-01; 8:45 am]

BILLING CODE 3510-07-P